DEPARTMENT OF COMMERCE

National Oceanic and Atmospheric Administration

Public Meeting on the Proposed Heeia Site for a National Estuarine Research Reserve in Hawaii

AGENCY: The Estuarine Reserves Division, Office of Ocean and Coastal Resource Management, National Ocean Service, National Oceanic and Atmospheric Administration, U.S. Department of Commerce.

ACTION: Public meeting notice.

SUMMARY: The Office of Planning, Hawaii Coastal Zone Management Program and the University of Hawaii with the support of the Estuarine Reserves Division of the Office of Ocean and Coastal Resource Management (OCRM), National Ocean Service (NOS), National Oceanic and Atmospheric Administration (NOAA), U.S. Department of Commerce, will hold a public meeting for the purpose of receiving comments on the preliminary recommendation that the Heeia estuary be proposed for designation as a National Estuarine Research Reserve in Hawaii.

DATES: The meeting will be held on February 27, 2014 at 5:30 p.m.

ADDRESSES: The meeting will be held at Governor Samuel Wilder King Intermediate School Dining Room, 46-155 Kamehameha Hwy, Kaneohe, HI 96744.

SUPPLEMENTARY INFORMATION: This will be the second public meeting held regarding the State's preliminary recommendation that the Heeia estuary in Kaneohe Bay, Oahu, be proposed for designation as a National Estuarine Research Reserve (NERR). A previous meeting was held on January 9, 2014. These meetings are held in compliance with NOAA regulations at 15 CFR Part 921 for the selection, designation and management of NERRs.

The views of interested persons and organizations on the proposed site recommendation are solicited, and may be expressed to the State of Hawaii orally during the meeting and/or in written statements to the Office of Planning, Coastal Zone Management Program, Attn: NERRS, P.O. Box 2359, Honolulu, HI 96804. An informational presentation on the Heeia Estuary and the National Estuarine Research Reserve System (NERRS) is scheduled for 5:30 p.m. All comments received at the meeting will be considered in a formal nomination by the state to NOAA. All comments provided to NOAA will be shared with the State of Hawaii as part of the site selection process.

The NERRS is a federal-state partnership that is administered by the National Oceanic and Atmospheric Administration (NOAA). The system protects more than 1.3 million acres of estuarine habitat for long-term research, monitoring, education and stewardship throughout the coastal United States. Established by the Coastal Zone Management Act of 1972, as amended, 16 U.S.C. 1451-1466 each reserve is managed by a lead state agency or university, with input from local partners. NOAA provides funding and national programmatic guidance.

The NERR site selection effort is a culmination of several years of local, grassroots support for a Hawaii NERR. The recommendation of the Heeia site follows a public solicitation and site proposal evaluation process. Federal, state, and county agency representatives and estuarine experts evaluated site proposals and recommended to the State that Heeia be considered as the preferred site.

FOR FURTHER INFORMATION CONTACT: Ms. Erica H. Seiden, Acting Chief, NOAA's Estuarine Reserves Division, Office of Ocean and Coastal Resource Management, National Ocean Service, NOAA, 1305 East West Highway, N/ORM2, Silver Spring, MD 20910. Phone: 301-563-1172. Please email comments to: hawaii.nerr.comments@noaa.gov by March 7, 2014.

Persons with disabilities please contact Leo Asuncion at the Office of Planning, Coastal Zone Management Program by February 18, 2014 to make arrangements. Phone: 808-587-2846.

Dated: January 17, 2014.
Christopher C. Cartwright,
Associate Assistant Administrator for Management and CFO/CAO, Ocean Services and Coastal Zone Management.

[FR Doc. 2014-01578 Filed 1-27-14; 8:45 am]

BILLING CODE 3510-22-P